DEPARTMENT OF AGRICULTURE

Forest Service

Snohomish County Resource Advisory Committee

AGENCY: Forest Service, USDA.

ACTION: Notice of meetings.

SUMMARY: The Snohomish County Resource Advisory Committee (RAC) will hold its first meeting on Wednesday, February 13, 2002, at the Snohomish County Administration Building, Public Conference Room (4th Floor), 3000 Rockefeller Ave. in Everett, WA 98201.

The meeting will begin at 9 a.m. and continue until about 5 p.m. Agenda items to be covered include: (1) Background on the Secure Rural Schools and Community Self-Determination Act of 2000, (2) organization of the Snohomish County Resource Advisory Committee, and (3) future program of work, for the Snohomish County Resource Advisory Committee.

All Snohomish County Resource Advisory Committee meetings are open to the public. Interested citizens are encouraged to attend.

The Snohomish County Resource Advisory Committee advises Snohomish County on projects, reviews project proposals, and makes recommendations to the Forest Supervisor for projects to be funded by Title II dollars. The Snohomish County Resource Advisory Committee was established to carry out the requirements of the Secure Rural Schools and Community Self-Determination Act of 2000.

FOR FURTHER INFORMATION CONTACT: Direct questions regarding this meeting to Barbara Busse, Designated Federal Official, USDA Forest Service, Mt. Baker-Snoqualmie National Forest, 74920 NE, Stevens Pass Hwy, PO Box 305, Skykomish, WA 98288 (phone: 360-677-2414) or Terry Skorheim, District Ranger, USDA Forest Service, Mt. Baker-Snoqualmie National Forest, 1405 Emens, St., Darrington, WA 98241 (phone: 360-436-1155).

Dated: January 16, 2002.
Barbara Busse,
Designated Federal Official.

[FR Doc. 02-1596 Filed 1-22-02; 8:45 am]

BILLING CODE 3410-11-M